DEPARTMENT OF TRANSPORTATION

Federal Aviation Administration

RTCA Special Committee 202: Portable Electronic Devices

AGENCY: Federal Aviation Administration (FAA), DOT.

ACTION: Notice of RTCA Special Committee 202 meeting.

SUMMARY: The FAA is issuing this notice to advise the public of a meeting RTCA Special Committee 202: Portable Electronic Devices.

DATES: The meeting will be held on July 12-15, 2004 from 9 a.m. to 4:30 p.m.

ADDRESSES: The meeting will be held at RTCA, Inc., 1828 L Street, NW., Suite 805, Washington, DC 20036-5133.

FOR FURTHER INFORMATION CONTACT: RTCS Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (P.L. 92-463, 5 U.S.C., Appendix 2), notice is hereby given for a Special Committee 202 meeting. The agenda will include:

• July 12-13:

Working Groups 1 through 4 meet all day

• July 14:

Opening Plenary Session (Welcome and Introductory Remarks, Review Agenda, Review/Approve previous Common Plenary Summary, Review Open Action Items)

Update from Eurocae Working Group WG-58

Report from Consumer Electronic Association (CEA) Discovery Group

Update from Regulatory Agencies (FAA, UK—CAA, Canadian TSB, or other members present)

Overview of Draft 4 comments received and allocation of response action(s).

Working Groups report out/each working group will cover the following topics:

Overview and disposition of comments received on the Draft 4 document

Coverage of TOR

Effort required to complete Phase 1 documentation (schedule/skills)

Working Group 1 (PEDs characterization, test, and evaluation)

Working Group 2 (Aircraft test and analysis)

Working Group 3 (Aircraft systems susceptibility)

Working Group 4 (Risk assessment, practical application, and final documentation)

Human Factors sub—group

Process Checklist sub—group

Review actions required to complete guidance document for release to PMC approval process

—Working Groups breakout sessions to address remaining document comment issues, action items, and completion of document

• July 15:

—Chairmen's Day 2 Opening Remarks and Process Check

—Plan for start of Phase 2 (Discuss structure and plan for work in support of Phase 2)

—Report on testing done by Electronic Navigation Research Institute

—Report on testing done by industry collaborative airplane testing group

—Review open actions on document draft preparation for FRAC

—Working Group breakout sessions as required

—Committee consensus on content of draft document

—Consensus on content and closure for all appropriate comments

—Forward to RTCA with SC-202 recommendation to publish

—Closing Session (Other Business, Date and Place of Next Meeting, Closing Remarks, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 3, 2004.
Robert Zoldos,
FAA System Engineer, RTCA Advisory Committee.

[FR Doc. 04-13304 Filed 6-10-04; 8:45 am]

BILLING CODE 4910-13-M